DEPARTMENT OF THE INTERIOR

National Park Service

[NPS-WASO-NAGPRA-12455; PCU00RP14.R50000-PPWOCRADN0]

Native American Graves Protection and Repatriation Review Committee: Meeting

AGENCY: National Park Service, Interior.

ACTION: Amended Notice.

SUMMARY: Notice is hereby given in accordance with the Federal Advisory Committee Act, 5 U.S.C. Appendix (1988), of a meeting of the Native American Graves Protection and Repatriation Review Committee (Review Committee). The Review Committee meeting previously noticed in the Federal Register (77 FR 53228-53229, August 31, 2012), to occur on May 22-23, 2013, in the History Colorado Center of the History Colorado Museum, Denver Colorado, will now occur only on May 22, 2013, from 10 a.m. to 4 p.m. EDT. This meeting will be telephonic and open to the public.

DATES: The Review Committee will meet on May 22, 2013. The agenda and materials for this meeting will be posted on or before April 22, 2013. Presentation requests must be received by March 22, 2013. These are the same dates that appeared in the notice of meeting of August 31, 2012.

ADDRESSES: Electronic submissions are to be sent to: Sherry_Hutt@nps.gov. Mailed submissions are to be sent to: Designated Federal Officer, NAGPRA Review Committee, National Park Service, National NAGPRA Program, 1201 Eye Street NW., 8th Floor (2253), Washington, DC 20005.

SUPPLEMENTARY INFORMATION: Notice is hereby given in accordance with the Federal Advisory Committee Act, 5 U.S.C. Appendix (1988), of a meeting of the Native American Graves Protection and Repatriation Review Committee (Review Committee). The Review Committee was established in Section 8 of the Native American Graves Protection and Repatriation Act of 1990 (NAGPRA), 25 U.S.C. 3006. The Review Committee meeting previously noticed in the Federal Register (77 FR 53228-53229, August 31, 2012), to occur on May 22-23, 2013, in the History Colorado Center of the History Colorado Museum, Denver Colorado, will now occur only on May 22, 2013, from 10 a.m. to 4 p.m. EDT. This meeting will be telephonic and open to the public.

The agenda for this meeting will include the appointment of the subcommittee to draft the Review Committee's Report to the Congress for 2013, and discussion of the scope of the Report; the development by the Review Committee of an agreed upon list of nominees to the Secretary of the Interior for the at-large member of the Review Committee; and National NAGPRA Program reports. In addition, the agenda may include requests to the Review Committee for a recommendation to the Secretary of the Interior, as required by law, in order to effect the agreed-upon disposition of Native American human remains determined to be culturally unidentifiable; presentations by Indian tribes, Native Hawaiian organizations, museums, Federal agencies, and the public. The agenda and materials for this meeting will be posted on or before April 22, 2013, at http://www.nps.gov/nagpra.

The Review Committee is soliciting public comment presentations by Indian tribes, Native Hawaiian organizations, museums, and Federal agencies on the following two topics: (1) the progress made, and any barriers encountered, in implementing NAGPRA and (2) the outcomes of dispute resolution facilitated by the Review Committee pursuant to 25 U.S.C. 3006(c)(4). The Review Committee also will consider other public comment presentations by Indian tribes, Native Hawaiian organizations, museums, Federal agencies, and the public. Oral presentation time may be limited as necessary. Written comments may be submitted in lieu of oral presentation. A public comment presentation request must, at minimum, include an abstract of the presentation and contact information for the presenter(s). Requests must be received by the Designated Federal Official by March 22, 2013.

Those who desire to register for the meeting should contact NAGPRA@rap.midco.net, by May 17, 2013, for registration information. Registrants will be provided the telephone access number for the meeting. Those making disposition requests and/or public comment presentations, must register for the meeting and also provide the presentation information to the Designated Federal Official by the dates as indicated above. A transcript and minutes of the meeting will also appear on the National NAGPRA Program Web site: http://www.nps.gov/nagpra.

Submissions may be made in one of three ways:

1. Electronically, as an attachment to a message (preferred for submissions of 10 pages or less). Electronic submissions are to be sent to: Sherry_Hutt@nps.gov.

2. By mail, on a single compact disc (preferred for submissions of more than 10 pages). Mailed submissions are to be sent to: Designated Federal Officer, NAGPRA Review Committee, National Park Service, National NAGPRA Program, 1201 Eye Street NW., 8th Floor (2253), Washington, DC 20005.

3. By mail, in hard copy.

Such items are subject to posting on the National NAGPRA Program Web site prior to the meeting. Items submitted at the meeting are subject to posting after the meeting.

Information about NAGPRA, the Review Committee, and Review Committee meetings is available on the National NAGPRA Program Web site, at http://www.nps.gov/nagpra. For the Review Committee's meeting procedures, click on “Review Committee,” then click on “Procedures.” Meeting minutes may be accessed by going to the Web site; then clicking on “Review Committee;” and then clicking on “Meeting Minutes.” Approximately fourteen weeks after each Review Committee meeting, the meeting transcript is posted for a limited time on the National NAGPRA Program Web site.

The Review Committee members are appointed by the Secretary of the Interior. The Review Committee is responsible for monitoring the NAGPRA inventory and identification process; reviewing and making findings related to the identity or cultural affiliation of cultural items, or the return of such items; facilitating the resolution of disputes; compiling an inventory of culturally unidentifiable human remains that are in the possession or control of each Federal agency and museum, and recommending specific actions for developing a process for disposition of such human remains; consulting with Indian tribes and Native Hawaiian organizations and museums on matters affecting such tribes or organizations lying within the scope of work of the Review Committee; consulting with the Secretary of the Interior on the development of regulations to carry out NAGPRA; and making recommendations regarding future care of repatriated cultural items. The Review Committee's work is carried out during the course of meetings that are open to the public.

Before including your address, phone number, email address, or other personal identifying information in your comment, you should be aware that your entire comment—including your personal identifying information—may be made publicly available at any time. While you can ask us in your comment to withhold your personal identifying information from public review, we cannot guarantee that we will be able to do so.

Dated: February 27, 2013.
Sherry Hutt,
Designated Federal Officer, Native American Graves Protection and Repatriation Review Committee.

[FR Doc. 2013-05922 Filed 3-13-13; 8:45 am]

BILLING CODE 4312-50-P